DEPARTMENT OF ENERGY

Federal Energy Regulatory Commission

[Docket Nos. RP00-479-002 and RP00-624-002]

Trailblazer Pipeline Company; Notice of Compliance Filing

November 19, 2001.

Take notice that on November 14, 2001, Trailblazer Pipeline Company (Trailblazer) tendered for filing to be a part of its FERC Gas Tariff, Third Revised Volume No. 1, certain tariff sheets listed on Appendix A to the filing, to be effective January 1, 2002 and certain pro forma tariff sheets with no requested effective date.

Trailblazer states that these tariff sheets were filed in compliance with the Commission's “Order on Compliance with Order Nos. 637, 587-G and 587-L”, issued in on October 15, 2001, which approved, subject to a number of modifications, Trailblazer's plan for compliance with Order Nos. 537, et seq., submitted on August 15, 2000, Docket Nos. RP00-499-000 and RP00-624-000.

Trailblazer states that copies of the filing have been mailed to all parties set out on the Commission's official service list in Docket Nos. RP00-499-000 and RP00-624-000.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-29314 Filed 11-23-01; 8:45 am]

BILLING CODE 6717-01-P